DEPARTMENT OF TRANSPORTATION

National Highway Traffic Safety Administration

49 CFR Part 571

[DOT Docket No. NHTSA-2002-13704]

RIN: 2127-AH23

Federal Motor Vehicle Safety Standards; Definition of Multifunction School Activity Bus

AGENCY: National Highway Traffic Safety Administration (NHTSA), DOT.

ACTION: Final rule.

SUMMARY: This final rule establishes a new class of school buses, multifunction school activity buses, for use in transporting children on trips other those than between home and school. We anticipate that this final rule will also facilitate efforts by the Federal Transit Administration to provide funding to Head Start programs and coordinated transportation providers to purchase the school buses. Currently, that Administration is prohibited from providing financial assistance to purchase regular yellow school buses that exclusively transport students and school personnel in competition with a private school bus operator. We anticipate that the new buses will be used for coordinated transportation purposes by State and local social services agencies, which may, for example, use the new buses to transport children from Head Start facilities to school in the morning, and to transport senior citizens later in the day. Finally, enabling schools and other institutions to choose the new buses instead of a 15-passenger van will provide them with a safer transportation alternative.

DATES: Effective date: The effective date for the final rule is: September 2, 2003. Manufacturers are provided optional early compliance with this final rule beginning July 31, 2003. Petitions for reconsideration: Petitions for reconsideration of the final rule must be received not later than September 15, 2003.

ADDRESSES: Petitions for reconsideration of the final rule must refer to the docket and notice number set forth above and be submitted to the Administrator, National Highway Traffic Safety Administration, 400 Seventh Street, SW., Washington, DC, 20590, with a copy to Docket Management, Room PL-401, 400 Seventh Street, SW., Washington, DC 20590.

FOR FURTHER INFORMATION CONTACT: For non-legal issues, you may call Mr. Charles Hott, Office of Crashworthiness Standards at (202) 366-0247. His FAX number is (202) 493-2739.

For legal issues, you may call Ms. Dorothy Nakama, Office of the Chief Counsel at (202) 366-2992. Her FAX number is (202) 366-3820.

You may send mail to both of these officials at National Highway Traffic Safety Administration, 400 Seventh St., SW., Washington, DC, 20590.

SUPPLEMENTARY INFORMATION:

Table of Contents

I. Executive Summary

II. Background—Relevant NHTSA Laws and Policies

III. Notice of Proposed Rulemaking

IV. Public Comments to the NPRM and NHTSA's Response

A. Should the Multifunction School Activity Bus Subcategory be Created?

B. Should the MFSAB be a “Bus” or “School Bus?'

C. Other Vehicle Classification Issues

D. Limits on Gross Vehicle Weight Rating for the MFSAB

E. FMVSS No. 222, School Bus Passenger Seating and Crash Protection

F. Warning Labels

G. Passenger Restraints

H. Emergency Exits

I. State Law Issues

V. Final Rule

VI. How This Final Rule Affects Other Federal Agencies

A. U.S. Department of Health and Human Services (DHHS)—Head Start Bureau

B. Federal Transit Administration (FTA)

C. National Transportation Safety Board (NTSB)

VII. Leadtime

VIII. Rulemaking Analyses and Notices

A. Executive Order 12866 and DOT Regulatory Policies and Procedures

B. Executive Order 13132 (Federalism)

C. Executive Order 13045 (Economically Significant Rules Affecting Children)

D. Executive Order 12778 (Civil Justice Reform)

E. Regulatory Flexibility Act

F. National Environmental Policy Act

G. Paperwork Reduction Act

H. National Technology Transfer and Advancement Act

I. Unfunded Mandates Reform Act of 1995

J. Plain Language

K. Regulation Identifier Number (RIN)

Text of the Final Rule

I. Executive Summary

This final rule establishes a new class of school buses, multifunction school activity buses (MFSABs), for use in transporting children on trips other those than between home and school.

Under current Federal law, dealers cannot sell a bus for the purpose of transporting school-age students to or from school or related events unless it meets all requirements in all Federal motor vehicle safety standards for school buses. Among those requirements are ones requiring all school buses to be equipped with control traffic (i.e., flashing lights and stop arms) designed to avoid crashes and injuries to pedestrians. The standards require those devices to deploy automatically when the front entrance door is opened.

Those traffic control devices are primarily intended to be used on trips involving picking school children up from or dropping them off at a roadside location at or near home. However, not all school children trips involve picking children up from or dropping them off at such locations. For example, some trips involve taking children from a before-school facility to a school or from a school to an after-school facility. State laws do not permit the use of the traffic control devices on those trips.

This rulemaking excludes MFSABS from the requirements for the traffic control devices. This exclusion resolves the conflict between the NHTSA standards that previously required all new school buses to be equipped with traffic control devices, and State laws that do not permit the use of the traffic control devices on the types of trips that the new buses will be making. The new buses are not required to have those devices since the buses, unlike regular yellow school buses, are not intended for the roadside picking up and dropping off of children during service between home and school. While the MFSABs are not required to be equipped with the traffic control devices, they are, however, required to meet all requirements in the school bus crashworthiness standards, all other requirements in the school bus crash avoidance safety standards, and all post-crash school bus standards.

We anticipate that this final rule will also facilitate efforts by the Federal Transit Administration to provide funding to Head Start programs and coordinated transportation providers to purchase the school buses. Currently, that Administration is prohibited from providing financial assistance to purchase regular yellow school buses that exclusively transport students and school personnel in competition with a private school bus operator. We anticipate that the new buses will be used for coordinated transportation purposes by State and local social services agencies, which may, for example, use the new buses to transport children from Head Start facilities to school in the morning, and to transport senior citizens later in the day.

Finally, enabling schools and other institutions to choose the new buses instead of a 15-passenger van will provide them with a safer transportation alternative since the new buses comply with all school bus requirements in the Federal Motor Vehicle Safety Standards except those relating to traffic control devices.

II. Background—Relevant NHTSA Laws and Policies

NHTSA's statute requires any person selling or leasing a new vehicle to sell or lease a vehicle that meets all applicable standards issued by the agency. Under our regulations, a “bus” is any vehicle (including a van) that has a seating capacity of 11 persons or more. The statute defines a “school bus” as any vehicle that is designed for carrying 11 or more persons and that is likely to be “used significantly to transport preprimary, primary, and secondary students to or from school or an event related to school.” (Emphasis added.) 49 U.S.C. 30125.

More broadly, we deem a bus likely to be used significantly to transport preprimary, primary, or secondary students to or from school or school-related events if, for example, it will be used for any of the following purposes on a regular basis: Pick students up from home to take them to school; pick them up from a place other than home (e.g., a before-school care facility) and drop them off at school; or pick them up from school and drop them off at home or a place other than home (e.g., an after-school care facility). The term “school” does not include pre-school (nursery) centers, or Head Start programs.

We have informed motor vehicle dealers that new buses sold to child-care providers and other entities that routinely drop students off at school or pick them up from school are required to be buses that meet the school bus safety standards, even though the purchasing organizations are not schools themselves. (See, e.g., July 23, 1998 letter to Mr. Don Cote, Northside Ford, filed in this docket at 13704-51)

In our interpretations of Section 30125, we have stated that a bus that is sold for school transportation must meet all standards applicable to school buses, including the four-way/eight-way alternating flashing lights required by FMVSS No. 108 and the stop-arm required by FMVSS No. 131.¹ Thus, even if school buses will be used only to transport children on activity trips or other trips that do not include home-to-school transportation, dealers currently cannot sell a school bus unless those buses are equipped with flashing lights and stop arms. This is true even if these devices are not likely to be used on such trips. It is also true even if State law does not allow them to be used on such trips or requires them to be removed before making such trips.

¹ The flashing lights are required by FMVSS No. 108 to operate automatically when the bus entrance door is opened. The stop arm is required by FMVSS No. 131 to operate automatically when the lights are flashing, except that a manual override device may be provided by the vehicle manufacturer.

One reason we are issuing this final rule is that after selling or leasing school buses, dealers cannot remove the four-way/eight-way flashing lights and stop-arms from them. Under 49 U.S.C. Section 30122, “Making safety devices and elements inoperative,” manufacturers, distributors, dealers, or motor vehicle repair businesses may not “knowingly make inoperative” any part of a device or element of design installed on or in a motor vehicle or motor vehicle equipment in compliance with an applicable motor vehicle safety standard. Before the issuance of this final rule, all school buses had to be equipped with the four-way/eight-way flashing lights and stop arms. Since it does not appear to make sense to have dealers sell school buses with equipment that the buyer wants removed, we are defining a new category of school buses without four-way/eight-way flashing lights and stop arms.

III. Notice of Proposed Rulemaking

On November 5, 2002 (67 FR 67373) (DOT Docket No. NHTSA-2002-13704), we published in the Federal Register a notice of proposed rulemaking (NPRM) to create a new school bus category, the “Multifunction School Activity Bus” (MFSAB). We proposed to except the new category from the requirement for school bus warning lamps at S5.1.4 of Federal Motor Vehicle Safety Standard (FMVSS) No. 108, Lamps, reflective devices and associated equipment, 49 CFR 571.108, and from the requirement for stop signal arms in FMVSS No. 131, School bus pedestrian safety devices, 49 CFR 571.131. We proposed to limit the category to buses with a gross vehicle weight rating of 6,804 kilograms (15,000 pounds) or less, and invited comment as to whether the new buses should have a label warning drivers that the buses were not for home-to-school service. We denied aspects of the Rabun-Gap petition relating to seat strength, seat spacing, and seat width for reasons set forth in the NPRM. A full explanation of why we granted or denied aspects of Rabun-Gap's petition is in the November 5, 2002 NPRM at 67 FR 67373.

IV. Public Comments to the NPRM and NHTSA's Response

NHTSA received a total of 48 public comment submissions in response to the NPRM. Some commenters commented more than once, and several submissions had identical or similar wording. We received comments from Alabama Department of Education, Amalgamated Transit Union (ATU), American Academy of Pediatrics (AAP), Black Gold Regional Schools Educational Authority, Blue Bird Body Company, Brownsville Independent School District (of Brownsville, Texas), Department of California Highway Patrol, Correctrack Inc., Transportation Consultant John Fairchild, Ford Motor Company, Hurst-Euless-Bedford Independent School District (of Bedford, Texas), IC Corporation, Indiana Department of Education, Kibois Area Transit System (of Stigler, Oklahoma), Les Entreprises Michel Corbeil Inc. (Corbeil), Maine Department of Education, National Association of Independent Schools (NAIS), National Association of State Directors of Pupil Transportation Services (NASDPTS), National Automobile Dealers Association (NADA), National Child Care Association (NCCA), National School Transportation Association (NSTA), National Transportation Safety Board (NTSB), Public Schools of North Carolina, Public Citizen, Pupil Transportation Safety Institute, Inc., Rabun Gap Nacoochee School (Rabun), Texas Association for Pupil Transportation, Texas Department of Public Safety, Thomas Built Buses, U.S. Bus Corporation, Utah State Office of Education, Virginia Association for Pupil Transportation (VAPT), Wisconsin Department of Transportation, and many private citizens. The following summarizes the comments, and our response to the comments.

A. Should the Multifunction School Activity Bus Subcategory Be Created?

Most commenters wrote in favor of the proposed new school bus category. However, some individual citizens, the state of Maine and AAP wrote against the proposal. The state of Maine commented that creating a new subcategory of school buses without traffic control features “creates a level of complexity and potentially an elevated hazard level * * * without producing a significant offsetting benefit.” AAP expressed concern about the MFSAB classification, stating that the traffic control features on a school bus “are meant to protect pedestrians, who account for significantly more school bus related fatalities than school bus passengers.” In its May 1996 Policy Statement on School Transportation Safety (R9616), regarding deaths to children as a result of school-bus related events, AAP stated that the “majority of pedestrians killed were young children who were struck by their own school buses.” NHTSA notes that activated traffic control devices on a school bus make surrounding motorists aware that children are outside and around a school bus and that the motorists should take extra precautions for the children. NHTSA and the States have other measures and programs (including school bus driver training) to lessen the chances that school children will be struck by their school buses.

NHTSA has decided to adopt the multifunction school activity bus vehicle classification, as proposed. NHTSA is conducting this rulemaking to promote flexibility in the choice of vehicles. NHTSA emphasizes that the MFSAB is not to be used by schools or school districts to transport school children on regular school bus route transportation. Because of this limitation, school children will not be exposed as pedestrians to traffic situations that stop arm and four-way/eight-way traffic control devices are designed to control, and we have concluded that the MFSAB will not lead to an increase in school children pedestrian fatalities as the AAP comments suggested. NHTSA agrees with Maine that creating a new category of school bus adds an additional level of complexity for school districts because it creates a school bus category that cannot be used for normal home-to-school transportation. However, NHTSA does not agree that this new school bus category will increase the risk of injuries or fatalities for the reasons explained above and below.

As explained in the NPRM, this final rule makes it easier for transportation providers other than schools or school districts to buy the MFSAB, which will be a safer transportation alternative to the 15-passenger van and motor coach bus for use by Head Start programs or senior citizens. If, after carefully considering all possible bus types, the transportation provider decides that the persons it transports are best served by a school bus with traffic control features, it is free to buy such a school bus rather than the MFSAB.

B. Should the MFSAB Be a “Bus” or “School Bus?”

NADA and NCCA recommended that the new vehicle category should be a “multifunction activity bus,” rather than a “multifunction school activity bus.” NADA suggested that the MFSAB does not suit its intended purpose and recommended that the multifunction activity bus be defined as “a bus that is designed for purposes that include transporting students to and from school, but not to and from home.” NADA stated that this definition has the advantage of avoiding the use of the term “school bus, which has a number of legal and practical Federal, State and local ramifications.” NADA further suggested that NHTSA should redefine the term “school bus” more narrowly and establish a new “bus” subcategory. They suggested that NHTSA should redefine “school bus” (in 49 CFR 571.3 “Definitions”) to read “a bus that is designed for purposes that include carrying students between home and school, but not a bus designed for operation as a common carrier in urban transportation.” ² NADA also stated that the “sold or introduced in interstate commerce” language in the present definition of school bus, “places an undue focus on the new vehicle sale or lease transaction and inherently requires sellers or lessors to ascertain a purchaser's intended use,” and that the primary burden of standards compliance should be placed on manufacturers of these vehicles.

² At present, “school bus” is defined at 49 CFR Section 571.3 as “a bus that is sold, or introduced in interstate commerce, for purposes that include carrying students to and from school or related events, but does not include a bus designed and sold for operation as a common carrier in urban transportation.”

For the following reasons, NHTSA has decided not to adopt NADA's and NCCA's recommendations for the redefinitions of “school bus” and “bus.” First, redefining these terms would be outside the scope of the rulemaking, as NHTSA in the NPRM proposed a definition of “multifunction school activity bus,” not redefinitions of “school bus” or “bus.” Second, statutory language specifies that only a new school bus may be sold “significantly to transport preprimary, primary, and secondary school students to or from school or an event related to school.” (See 49 U.S.C. 30125(a)). This statutory definition takes precedence over any regulatory definition, and amending 49 CFR 571.3 (“Definitions”) would not alter the statute. Therefore, defining the MFSAB as a “bus” would put NHTSA in the anomalous situation of fining sellers and lessors that sell or lease new “buses” to child care centers or other transportation providers that use the MFSAB to take children to and from school or on school-related activities. Thus, defining the MFSAB as a “bus” would defeat the purpose of this rulemaking.

Third, NHTSA does not agree that in ensuring that nonconforming new buses are not sold for school transportation purposes, the emphasis on sellers or lessors of new motor vehicles poses a burden on sellers or lessors or on NHTSA. NHTSA's position was explained in an interpretation letter of May 9, 2001 to Collins Bus Corporation, a bus manufacturer. When a day care center wished to purchase a bus to transport children to their homes, Collins asked for guidance about assurances the day care center had to provide a dealer or manufacturer that the intended use does not dictate a school bus. Collins noted that the user is the only person who can actually know how the bus will be used during its life. As part of our answer, we stated that although NHTSA does not currently presume that day care centers universally are engaged in the transportation of children to and from school:

* * * where it is likely that the purchaser or lessor of a new bus is a day care center, in light of the widespread publicity that has surrounded the issue, we expect a dealer to inquire as to whether the vehicle would also be used to drop off or pick up students from school. If it appears that a vehicle will be used significantly for student transportation, the requirement to sell a certified school bus that meets the Federal motor vehicle safety standards for school buses would apply. Confirmation in writing would appear to be prudent.

Thus, if the present definition of “school bus” does not include the term “sold, or introduced in interstate commerce,” NHTSA's enforcement efforts to ensure that dealers and lessors of new vehicles do not sell or lease nonconforming buses for school transportation purposes may be frustrated.³ Therefore, when this final rule takes effect, where it is likely that the purchaser or lessor of a new MFSAB is a State agency, private or public school, or school district, we expect a dealer to inquire as to whether the vehicle will also be used to drop off or pick up students from school. If it appears that the MFSAB will be “used significantly” for transportation between children's homes and school, the requirement to sell a school bus that meets the Federal motor vehicle safety standards for school buses, including FMVSSs No. 108 and No. 131 would apply. NHTSA also notes that changing the “school bus” and “bus” definitions would not affect dealers' and lessors' statutory responsibilities in ensuring that they do not sell new nonconforming buses for school transportation purposes.

³ See 49 U.S.C. Section 30112 “Prohibition on manufacturing, selling, and importing noncomplying motor vehicles and equipment.”

C. Other Vehicle Classification Issues

Public Citizen stated that it recognized Head Start programs' need to purchase vehicles that meet the crashworthiness and crash avoidance protection of school buses and did not object to NHTSA's proposal. However, Public Citizen urged NHTSA to go further and create a new category of buses called the “Multi-Function Activity Buses” to ensure that all buses weighing less than 15,000 pounds GVWR, including 15-passenger vans, meet the school bus crash avoidance, crashworthiness, and post-crash requirements required for school buses. The NPRM did not propose to apply the school bus requirements to buses that are not used to transport school children. Public Citizen's recommendation is thus outside the scope of the present rulemaking. However, the adoption of this final rule will give transportation providers the alternative for a safer transportation choice.

The California Highway Patrol recommended that the MFSAB be defined as a school bus whose purpose does not include transporting students to and from home “or a school bus stop.” The rationale for this suggestion was that school buses often pick children up at designated school bus stops, rather than at their homes. Specifying the school bus stop in the definition would make explicit that children should not be picked up from their homes or from school bus stops when transported in a MFSAB. NHTSA agrees that specifying that children should not be picked up from school bus stops would eliminate a potential ambiguity. Thus, in this final rule, the definition of MFSAB states: “a school bus whose purposes do not include transporting students to and from home or school bus stops.”

D. Limits on Gross Vehicle Weight Rating for the MFSAB

The majority of commenters on this issue, including NTSB, recommended that NHTSA not adopt the 6,804 kg (15,000 pound) gross vehicle weight rating (GVWR) limitation on the MFSAB. NTSB stated that it did not believe the risk of misuse is significant because using vehicles other than school buses to pick up and drop off children at home “is generally prohibited.” NTSB stated that it is not aware of evidence that school districts are misusing vehicles in this manner.

Blue Bird Body Company stated that removing the GVWR weight limitations would meet the need for safety, in that more organizations would be encouraged to buy MFSABs in lieu of non-school buses. Blue Bird noted the increasing public awareness that school buses are safer than non-school buses, and reported increases in requests for school buses (including larger school buses) from churches and colleges to replace the “vans” that had been used. Blue Bird also noted that many schools own used motorcoaches, especially in the western states where travel distances are greater. Blue Bird stated that there is a market demand for a “school activity bus” that is more comfortable than a “typical school bus.” Since the motorcoaches do not meet school bus safety standards, the students are unnecessarily placed at risk. Blue Bird stated its belief that having no weight restrictions on the MFSABs will encourage the schools to buy MFSABs “that meet the school bus crashworthiness standards of construction.”

NASDPTS cautioned that the proposed 15,000 pound GVWR limitation “would eliminate larger buses from the potential of federal funding under the Federal Transit Administration,” possibly frustrating coordinated transportation providers' efforts in meeting the needs of its customers. It also noted that it would not be practicable to expect a school, child care center, Head Start program, or coordinated transportation provider to purchase two or more small MFSABs in lieu of one large MFSAB because of the additional costs that would be incurred for more drivers, additional maintenance, and insurance.

The Texas Department of Public Safety stated that if MFSABs included all sizes of school buses, Texas could change its definition of a “school activity bus” to include the MFSAB. This would mean a school district could buy a vehicle as safe as a school bus to transport students on activity trips.

NSTA, on the other hand, supported the limitation of the MFSAB to buses not larger than 15,000 pounds GVWR. NSTA expressed concern about the possibility of misuse, especially by private schools that often come under less scrutiny by state agencies than do public schools. NSTA also noted that coordinated transportation systems could combine adult and student passenger loads and stage pick-ups at curbside bus stops. Although this would not constitute home-to-school transportation, students could be endangered because there would be roadside loading and offloading without the benefit of the school bus traffic control devices. NSTA also expressed concern that school student safety would be compromised because the large MFSAB would not require a school bus driver, that the MFSAB driver would need only a passenger endorsement, without the additional safety training of a school bus driver.

Regarding the potential misuse of the MFSAB by home to school transportation providers, NHTSA shared this concern. However, every State has laws that require school bus drivers to activate the warning lamps and stop signal arm whenever the school bus is stopped to pick up or discharge students on public roads. A driver failing to activate these devices would be in violation of State law. Thus, every State already has a law that prohibits school districts from using a MFSAB to transport children to and from school, since it would be picking up or discharging students without activating warning lamps and the school bus stop arm. The misuse issue is discussed in greater detail in Section I., “State Law Issues.”

These State laws have also persuaded NHTSA that it is unlikely that larger MFSABs would be misused, and therefore, weight limitations for MFSABs are not necessary. Hence, NHTSA has decided to not adopt the 6,804 kg (15,000 pound) GVWR limitation on MFSABs.

Removing a weight limitation on MFSABs would also further NHTSA's goal of promoting choice for transportation providers since it would mean that those whose transportation choices are now buses over 6,804 kg or school buses over 6,804 kg would have an alternative bus over 6,804 kg (i.e., the MFSAB) that provides the same crashworthiness, crash avoidance and post-crash safety protection as does a school bus, without the traffic control features that are not used.

NSTA's concern about coordinated transportation systems where children could be loaded and offloaded without the benefit of school bus traffic control devices is an issue of vehicle use, regulated by the States. Some areas in the U.S. may not be financially able to provide a school bus system for school transportation and a separate bus system for everyone else. Transportation systems using MFSABs would offer all riders more protection than if non-school buses were used.

NSTA's concern that a large MFSAB would not require a school bus driver is a matter that would be addressed by State law. State law would determine the type of license (bus v. school bus) a driver would need to drive the MFSAB.

E. FMVSS No. 222, School Bus Passenger Seating and Crash Protection

Although the NPRM denied those aspects of the Rabun-Gap petition pertaining to school bus seats, several comments addressed the issue of seating. Blue Bird Body Company recommended that FMVSS No. 222, School bus passenger seating and crash protection, be amended to make the provisions that presently apply to school buses 10,000 pounds GVWR and under to also apply (at the option of the manufacturer) to MFSABs over 10,000 pounds GVWR.

Blue Bird stated that many schools want their “school activity buses” to have reclining seats, wider seat width for each passenger, and more seat separation so that tall and large students are more comfortable on long trips. They stated that FMVSS No. 222 “compartmentalization” requirements restrict school bus manufacturers' ability to meet comfort requirements, especially for school buses over 10,000 pounds GVWR. Blue Bird noted that FMVSS No. 222 requires that small school buses (10,000 pounds GVWR or under) be equipped with Type 1 or Type 2 seat belts and does not require that they meet S5.2, Restraining Barrier Requirements, of FMVSS No. 222. Thus, MFSABs with a GVWR of 10,000 pounds or less would not be restricted as to the requirement for a restraining barrier forward of a passenger seat and, therefore, would not be constrained as to a maximum allowable seat spacing.

Blue Bird went on to note that if MFSABs over 10,000 pounds GVWR, when equipped with seat belts, were excepted (as small school buses are now excepted) from S5.2, then seat spacing would no longer be an issue. Blue Bird therefore recommended that manufacturers of large MFSABs be allowed to meet the provisions of FMVSS No. 222 as they apply to school buses 10,000 pounds GVWR or under.

Blue Bird also recommended that S4.1 of FMVSS No. 222 be amended to permit a manufacturer of MFSABs to install only two seat belts on any seat that is between 22.5 inches and 39 inches in width, “to meet customer requirements for no more than two passengers per seat on a MFSAB.” Blue Bird cited market demand for more seating room on school bus bench seats and stated that “something will need to be changed to permit the installation of only two seat belts on a 39-inch wide seat in a MFSAB.”

Rabun addressed NHTSA's discussion in the NPRM that the MFSAB could be equipped with reclining motorcoach style seating and still meet FMVSS No. 222 because the standard specifies that when the school bus is tested, adjustable seat backs are to be “adjusted to its most upright position.” (See NPRM at 67 FR 67378.) Rabun responded that its discussions with school bus manufacturers have led them to believe that “such seats, when in the reclined position, do not meet the intent of FMVSS No. 222 and are therefore not available for sale in buses certified as school buses.” Rabun recommended the use of combination lap/shoulder belts since they believed “a passenger who is seated behind a seat in the reclining position and who is wearing a lap/shoulder restraint would be better protected in a frontal collision than if the passenger did not have seat belts, even if the seating system was certified to meet the requirements of FMVSS No. 222.” Rabun also expressed the view that if each passenger was provided a lap/shoulder restraint and was required to use it, the issue of compartmentalization and seat spacing would be “correspondingly insignificant.”

AAP expressed concern that the proposed rule did not require seating positions to be equipped with lap/shoulder belts and LATCH. AAP called on NHTSA to “move in the direction of ensuring greater safety of children on school buses by requiring them to be equipped with lap/shoulder belts.” John Fairchild recommended that NHTSA should at least “encourage” every MFSAB to provide Type II lap/shoulder seat belt systems at every seating position, and to provide “appropriate securement systems for the child restraint devices Head Start specifies, and could serve other paratransit clients as well.”

Since none of these suggested amendments were proposed in the NPRM, we are unable to adopt them without further notice and opportunity for comment. We are aware of the continuing interest in possible improvements to school bus seating. In May 2002, we reported to Congress on prospective improvements for occupant protection in school buses, as required by the Transportation Equity Act for the 21st Century (TEA-21)(P.L. 105-178).⁴

⁴ Section 2007(b) of TEA-21 states: “School Bus Occupant Safety Study—The Secretary shall conduct a study to assess occupant safety in school buses. The study shall examine available information and occupant safety and analyze options for improving occupant safety.”

NHTSA is in the process of developing test procedures for voluntarily installed lap/shoulder belts in school buses over 4,536 kg (10,000 pounds) gross vehicle weight rating. We expect to propose some improvements in this area in the next year or so.

F. Warning Labels

Commenters on this issue expressed skepticism about the efficacy of interior labels warning that MFSABs should not be used to transport school children between home and school. NASDPTS questioned the benefit of a warning label on the MFSAB as to its intended use. That organization stated that using the MFSAB to transport students to and from school would violate laws in every state. It noted that if “someone with this knowledge is pre-conditioned to violate state laws, and expose themselves and their school district to extreme liability risks, it does not seem reasonable to assume that the addition of a warning label will change that individual's mind.” NASDPTS also noted that there are already “a large number” of labels on school buses, and that at some point, there are diminishing returns of adding even more warning labels. NASDPTS recommended that any potential MFSAB misuse be addressed through school bus driver training rather than by another warning label.

John Fairchild recommended the adoption of a “performance standard for an interior warning device that specifies the vehicle's current operational status.” Fairchild suggested that the device or label should at a minimum indicate whether the vehicle is in use as a school activity bus, Head Start AAV, or other type of service. Vehicles dedicated to a single use would need to provide “only the one appropriate indicator related to its defined activity.”

The Department of California Highway Patrol recommended a warning label stating: “This vehicle is not intended for daily school-bus route use,” that would be placed in a general location such as the driver's compartment where it would be easily visible by the driver or any passenger who enters or exits the vehicle.

NAIS “sees no harm” in placing a warning label, and suggested a label in the driver's view that “the MFSAB should not load or unload passengers if the passengers are not protected from traffic.”

VAPT recommended that a warning label be placed in a prominent spot and that the label state: “No loading once the trip begins. No unloading until reaching the destination. [Head Start Only—monitor shall accompany students crossing the road.]” NSTA also supported the requirement for a warning label.

The Utah State Office of Education recommended a warning label near the front of the occupant compartment stating: “This Bus Is Not To Be Used To Bus Students To or From School or Home.”

In the NPRM, NHTSA did not propose a specific warning label, but did ask for comments on this issue. In particular, NHTSA asked whether MFSAB manufacturers should be required to place a prominent warning near the front of the occupant compartment, warning the driver and passengers that the bus was not intended to be used to pick children up from and drop them off at places such as home and bus stops. If commenters believed that such a warning was appropriate, NHTSA asked for comment on standardized wording, size and other appearance requirements and location.

A number of commenters addressed the general question of whether or not a warning label was appropriate, without addressing the more specific questions. Commenters who did not believe a label was appropriate expressed concerns about such a label distracting attention from other warning labels or stated that State laws and liability concerns would prevent misuse of the MFSAB. Most of those supporting a label did not give specific information about why a label would be helpful; however, a few did express concern about the possibility of misuse.

A few commenters provided specific comment about the form a warning label should take if required. One commenter, John Fairchild, recommended the adoption of a “performance standard for an interior warning device that specifies the vehicle's current operational status,” i.e., school activity bus, Head Start AAV, etc. Other commenters offered specific language indicating either that the MFSAB was not to be used for school bus routes or that there should be no unloading before reaching the final destination, but each commenter's suggested language differed from the others.

Only one commenter addressed the issues of size and location. Les Entreprises Michel Corbeil, Inc. indicated that if a warning label were found to be necessary, the “label should be as small as possible but clearly visible to the drivers and to passengers seated in at least the first three rows.”

After carefully considering the public comments, NHTSA has decided not to specify a warning label in the final rule. NHTSA is not convinced that a warning label would be necessary to convey the message that the MFSAB should not be used for regular school bus use. As NASDPTS noted, using the MFSAB to transport students to and from school would violate laws in every state. Further, as many commenters pointed out, there are already a large number of labels in school buses. For these reasons, and because NHTSA did not propose a specific label, NHTSA has decided to monitor the use of the MFSAB. If misuse occurs, NHTSA will reconsider the warning label at a later date.

G. Passenger Restraints

U.S. Bus Corporation asked for clarification of whether the MFSAB with a GVWR of 10,000 pounds or less must meet passenger restraint system requirements in FMVSS No. 208, Occupant crash protection or in FMVSS No. 222, School bus passenger seating and crash protection. NHTSA's response is that as a school bus category, all MFSABs, including those that are 10,000 pounds GVWR or under, must meet FMVSS No. 222.

H. Emergency Exits

U.S. Bus Corporation also noted that FMVSS No. 217, Bus emergency exits and window retention and release, has different requirements for emergency exit windows and emergency exit doors for buses versus school buses. They asked for clarification of which set of FMVSS No. 217 requirements the MFSAB must meet. Because the MFSAB would be a category of school bus, it would have to meet all of the emergency exit requirements specified in FMVSS No. 217 for school buses.

I. State Law Issues

Commenters offered these additional comments on issues that fall within the purview of State law.

Potential Misuse by Home to School Transportation Providers

In the NPRM, NHTSA explained that it proposed a size limitation on MFSABs because it was concerned about the possibility of misuse, i.e., the possibility that schools would purchase school buses without traffic control devices as a means of saving money on buses used to pick children up from and drop them off at home. In its comments, NASDPTS addressed NHTSA's concern. NASDPTS stated that every State has laws that require school bus drivers to activate the warning lamps and stop signal arm whenever the school bus is stopped to pick up or discharge students on public roads. A driver failing to activate these devices would be in violation of State law. Further, if a school district used a MFSAB to transport children to and from school, it would be violating its State laws since it would be picking up or discharging students without activating warning lamps and the stop signal arm. NASDPTS noted: “Such actions would not only be punishable under state law, but would also expose the school district, school board, state department of education, etc. to extreme liability risks that would far outweigh any savings that might accrue from ordering a MFSAB rather than a “school bus.”'

VAPT stated its belief that the possibility of misuse is lessened because state agencies that oversee the operations and specifications for school buses used in the public schools do a very good job of educating and training its members. VAPT stated that these state agencies responsible for pupil transportation can also distribute information to other state agencies, or can notify its member schools about any new classification and ask the individual school district directors to distribute notices locally.

NAIS suggested that NHTSA consider requiring schools using MFSABs to load and unload students in protected areas out of roadways, whether in a parking space, parking lot, or turnaround area. NAIS suggested that such a rule “may be a more appropriate reminder on a sticker in the bus than one reminding users that students should not be dropped off at home or other bus stops.” NHTSA does not have the statutory authority to regulate where and how students are to be picked up or dropped off. Operational requirements such as this are matters of State law.

The Amalgamated Transit Union encouraged NHTSA to prohibit school districts from using passenger vans to transport children to and from school and school-related activities. Because regulation of vehicle use is a matter of State law, NHTSA cannot adopt this recommendation. However, NHTSA and the National Transportation Safety Board have been on record as recommending that school children be transported in school buses (including the MFSAB), and not in buses that do not meet NHTSA's school bus standards.

School Bus Color

Corbeil (a school bus and bus manufacturer), the National Child Care Association, John Fairchild, and U.S. Bus Corporation recommended that the final rule contain a provision prohibiting the MFSAB from being painted National School Bus Glossy Yellow. This recommendation will not be adopted because NHTSA did not propose to regulate MFSAB color in the NPRM and thus, the issue is outside the scope of this rulemaking. Although NHTSA does not at present regulate school bus color, all States require school buses that provide home-to-school transportation to be painted National School Bus Glossy Yellow, as recommended in Highway Safety Program Guideline No. 17, “Pupil Transportation Safety.”

NHTSA is also aware that some States allow “activity buses” used by schools to be painted a color other than National School Bus Glossy Yellow. When this final rule takes effect, each State will determine whether MFSABs used by schools for activity trips, child care facilities for point-to-point school transportation, or coordinated transportation systems for various transportation services, must be painted a color other than National School Bus Glossy Yellow. NHTSA is not aware of any safety problems associated with color identification in buses that are already performing these services. Should it appear that there is a safety need, NHTSA will consider regulating school bus color.

School Bus Driver Training

John Fairchild recommended that NHTSA develop specific training materials related to operational issues for the MFSAB drivers and riders. NASDPTS recommended that any potential MFSAB misuse be addressed through school bus driver training rather than by a warning label.

School bus driver training is primarily a responsibility of State and local governments. However, NHTSA will consider developing educational materials, to be used voluntarily by school transportation trainers, that discuss restrictions on the use of MFSABs, especially involving to and from school transportation for school children.

V. Final Rule

After reviewing the public comments, NHTSA has decided to adopt a new school bus category, the “multifunction school activity bus,” with the following characteristics:

1. The MFSAB is classified as a “school bus,” not a “bus.”

2. There is no upper weight limit on the MFSAB.

3. The MFSAB must meet FMVSS No. 222, as FMVSS No. 222 is presently written.

4. The MFSAB must meet all warning label requirements applicable to school buses. There is no label unique to the MFSAB.

5. Because school bus color is regulated by State law, NHTSA does not prohibit the MFSAB from being painted National School Bus Glossy Yellow.

VI. How This Final Rule Affects Other Federal Agencies

A. U.S. Department of Health and Human Services (DHHS)—Head Start Bureau

With this final rule, we intend to create a subcategory of school buses that qualify as “allowable alternate vehicles” under DHHS' Head Start regulations, 45 CFR 1310.12, and thus could be used to transport Head Start Program participants.

B. Federal Transit Administration (FTA)

We anticipate that creation of the MFSAB will aid the efforts of Regional Transit Authorities (which must serve the general public) and Head Start both to meet State law and to satisfy the limitations on the availability of funding from the FTA. Since the MFSABs do not have the school bus flashing lights and stop arms, NHTSA expects that transit authorities and other transportation providers can readily obtain FTA funding to buy MFSABs, provided that such vehicles are not used as school buses to provide home-to-school service. Further, as noted above, in many States, the flashing lights and stop arms are permitted only on “school buses” (as defined by State law).

C. National Transportation Safety Board (NTSB)

By making available a category of school bus that may be somewhat less expensive than the school bus with traffic control devices, NHTSA anticipates that the final rule will help child transportation providers in implementing the NTSB's recommendation that children be transported in buses that “meet the school bus structural standards or the equivalent set forth in 49 Code of Federal Regulations Part 571.”

VII. Leadtime

All public commenters addressing the leadtime issue urged that this final rule take effect as soon as possible. Accordingly, this final rule is effective thirty days from the date this document is published in the Federal Register. Optional early compliance with this final rule is provided as of the date this document is published in the Federal Register.

VIII. Regulatory Analyses and Notices

A. Executive Order 12866 and DOT Regulatory Policies and Procedures

Executive Order 12866, “Regulatory Planning and Review” (58 FR 51735, October 4, 1993), provides for making determinations whether a regulatory action is “significant” and therefore subject to Office of Management and Budget (OMB) review and to the requirements of the Executive Order. The Order defines a “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

We have considered the impact of this rulemaking action under Executive Order 12866 and the Department of Transportation's regulatory policies and procedures. This rulemaking document was not reviewed by the Office of Management and Budget under E.O. 12866, “Regulatory Planning and Review.” The rulemaking action is also not considered to be significant under the Department's Regulatory Policies and Procedures (44 FR 11034; February 26, 1979).

For the following reasons, we believe that this final rule will not increase vehicle manufacturers' costs to provide school buses for uses other than transportation of students between home and school. In order to manufacture a “multifunction school activity bus,” vehicle manufacturers need only manufacture a school bus and omit including the four-way/eight-way alternating flashing lights and stop arm.

For the following reasons, depending on how the new “multifunction school activity bus” is priced, NHTSA believes that organizations that at present purchase school buses for transportation purposes other than to and from home to school might realize a cost benefit as a result of this rulemaking.

As earlier discussed, this final rule creates a subcategory of school buses that need not meet requirements for flashing four-way/eight-way alternating flashing lights or a stop arm. Estimates supplied by Blue Bird Body Company (a school bus manufacturer) indicate that the average cost of the four-way/eight-way alternating flashing lights is approximately $417 per school bus and the average cost of the stop-arm is approximately $560. Estimates supplied by Thomas Built Buses (another school bus manufacturer) indicate that the cost for the four-way/eight-way alternating flashing lights ranges from $175 for the least expensive four-way system to $2,300 for the most expensive eight-way system and the cost for stop-arms ranges from $250 to $720. Based on those figures, the cost of adding stop-arms and alternating flashing lights ranges from $425 to $3020 per school bus.

The Annual Fact Book published by School Transportation News reports a strong increase in sales of “Type A” school buses (approximately 4,536 kg (10,000 pounds) GVWR); increasing from 6,389 in the 1995-1996 school year to 10,475 in the 1998-1999 school year. The agency notes that from 1990 through 1997, approximately 6,000 “Type A” school buses were sold each year. The agency believes that the increase in the sales of small school buses for years following 1997 is mostly due to purchases by organizations such as day care centers and Head Start, which provide child transportation. The agency does not have any data to indicate what percentages of the “Type A” school buses are sold to organizations that provide transportation other than between home and school. We note that since approximately 6,000 small “Type A” school buses were sold per year prior to 1997, a reasonable assumption would be that about 4,000 of these buses are sold to day care centers and others for transportation purposes other than to and from home to school.

Based on the cost figures discussed above and the conservative estimate of 4,000 Type A school buses sold each year, we estimate that this final rule may save child transportation providers approximately $3.9 million dollars per year in the small “Type A” school bus market. However, this estimate assumes that school bus manufacturers will reduce the prices of the “multifunction school activity bus” by the amount of money saved as a result of not having to install four-way/eight-way alternating flashing lights or stop arms on those vehicles.

Because the economic impacts of this proposal are so minimal (i.e., the annual effect on the economy is less than $100 million), no further regulatory evaluation is necessary.

B. Executive Order 13132 (Federalism)

Executive Order 13132 requires us to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, we may not issue a regulation with Federalism implications, that imposes substantial direct compliance costs, and that is not required by statute, unless the Federal government provides the funds necessary to pay the direct compliance costs incurred by State and local governments, or unless we consult with State and local governments, or unless we consult with State and local officials early in the process of developing the proposed regulation. We also may not issue a regulation with Federalism implications and that preempts State law unless we consult with State and local officials early in the process of developing the proposed regulation.

This final rule will not have substantial direct effects on the States, on the relationship between the national government and the States, or on the distribution of power and responsibilities among the various levels of government, as specified in Executive Order 13132. The reason is that this final rule, applies to motor vehicle manufacturers, not to the States or local governments. This final rule assists child transportation providers by making available a school bus that meets the traffic control laws of States and local governments. Thus, the requirements of Section 6 of the Executive Order do not apply to this final rule.

C. Executive Order 13045 (Economically Significant Rules Disproportionately Affecting Children)

Executive Order 13045 (62 FR 19885, April 23, 1997) applies to any rule that: (1) Is determined to be “economically significant” as defined under E.O. 12866, and (2) concerns an environmental, health or safety risk that NHTSA has reason to believe may have a disproportionate effect on children. If the regulatory action meets both criteria, we must evaluate the environmental health or safety effects of the planned rule on children, and explain why the planned regulation is preferable to other potentially effective and reasonably feasible alternatives considered by us.

This final rule is not subject to the Executive Order because it is not economically significant as defined in E.O. 12866 and does not involve decisions based on environmental, health or safety risks that disproportionately affect children. However, this final rule makes a school bus vehicle type available for transportation purposes other than to and from home to school. Although we do not have any estimates of the extent or nature of the practice throughout the country, the agency is informed by the National Child Care Association that at present, in many cases, children provided transportation to and from child care facilities are transported in 15-passenger vans or other buses that do not meet the special requirements for school buses. This final rule increases the chances that children are transported in MFSABs, rather than in buses that are not school buses and the children's safety is thereby enhanced.

D. Executive Order 12778 (Civil Justice Reform)

Pursuant to Executive Order 12778, “Civil Justice Reform,” we have considered whether this final rule has any retroactive effect. We conclude that it does not have such an effect. Under 49 U.S.C. 30103, whenever a Federal motor vehicle safety standard is in effect, a State may not adopt or maintain a safety standard applicable to the same aspect of performance which is not identical to the Federal standard, except to the extent that the state requirement imposes a higher level of performance and applies only to vehicles procured for the State's use.

49 U.S.C. 30161 sets forth a procedure for judicial review of final rules establishing, amending or revoking Federal motor vehicle safety standards. That section does not require submission of a petition for reconsideration or other administrative proceedings before parties may file suit in court.

E. Regulatory Flexibility Act

Pursuant to the Regulatory Flexibility Act (5 U.S.C. 601 et seq., as amended by the Small Business Regulatory Enforcement Fairness Act (SBREFA) of 1996) whenever an agency is required to publish a notice of rulemaking for any proposed or final rule, it must prepare and make available for public comment a regulatory flexibility analysis that describes the effect of the rule on small entities (i.e., small businesses, small organizations, and small governmental jurisdictions). However, no regulatory flexibility analysis is required if the head of an agency certifies the rule would not have a significant economic impact on a substantial number of small entities. SBREFA amended the Regulatory Flexibility Act to require Federal agencies to provide a statement of the factual basis for certifying that a rule would not have a significant economic impact on a substantial number of small entities.

The agency Administrator has considered the effects of this rulemaking action under the Regulatory Flexibility Act (5 U.S.C. 601 et seq.) and certifies that this final rule will not have a significant economic impact on a substantial number of small entities. We believe that this final rule benefits small businesses, small nonprofits and small local governments slightly because they are now able to purchase a school bus without traffic control devices on them, potentially saving $977 per school bus (using figures provided by Blue Bird Body Company), and saving small entity providers of transportation other than to and from home to school transportation approximately $3.9 million dollars per year. This cost savings assumes that school bus manufacturers (some of which are small businesses) pass on to customers the cost savings resulting from not installing the traffic control devices on the school buses.

Accordingly, the agency believes that this final rule has a small beneficial cost effect on small motor vehicle manufacturers considered to be small business entities, on small businesses (that presently transport children in school buses with the four-way/eight-way alternating flashing lights and stop arms) providing transportation other than to and from home to school, or child care, small nonprofits, and small local governmental entities.

F. National Environmental Policy Act

We have analyzed this rule for the purposes of the National Environmental Policy Act and determined that it would not have any significant impact on the quality of the human environment.

G. Paperwork Reduction Act

NHTSA has determined that this final rule will not impose any “collection of information” burdens on the public, within the meaning of the Paperwork Reduction Act of 1995 (PRA). This rulemaking action will not impose any filing or recordkeeping requirements on any manufacturer or any other party.

H. National Technology Transfer and Advancement Act

Section 12(d) of the National Technology Transfer and Advancement Act of 1995 (NTTAA), Public Law 104-113, section 12(d) (15 U.S.C. 272) directs us to use voluntary consensus standards in our regulatory activities unless doing so would be inconsistent with applicable law or otherwise impractical. Voluntary consensus standards are technical standards (e.g., materials specifications, test methods, sampling procedures, and business practices) that are developed or adopted by voluntary consensus standards bodies, such as the Society of Automotive Engineers (SAE). The NTTAA directs us to provide Congress, through OMB, explanations when we decide not to use available and applicable voluntary consensus standards.

After conducting a search of available sources, we have determined that there are not any voluntary consensus standards applicable to this rulemaking.

I. Unfunded Mandates Reform Act

Section 202 of the Unfunded Mandates Reform Act of 1995 (UMRA) requires Federal agencies to prepare a written assessment of the costs, benefits and other effects of proposed or final rules that include a Federal mandate likely to result in the expenditure by State, local or tribal governments, in the aggregate, or by the private sector, of more than $100 million in any one year (adjusted for inflation with base year of 1995). Before promulgating a NHTSA rule for which a written statement is needed, section 205 of the UMRA generally requires us to identify and consider a reasonable number of regulatory alternatives and adopt the least costly, most cost-effective or least burdensome alternative that achieves the objectives of the rule. The provisions of section 205 do not apply when they are inconsistent with applicable law. Moreover, section 205 allows us to adopt an alternative other than the least costly, most cost-effective or least burdensome alternative if we publish with the final rule an explanation why that alternative was not adopted.

This final rule will not result in costs of $100 million or more to either State, local, or tribal governments, in the aggregate, or to the private sector. Thus, this rule is not subject to the requirements of sections 202 and 205 of the UMRA.

J. Plain Language

Executive Order 12866 requires each agency to write all rules in plain language. Application of the principles of plain language includes consideration of the following questions:

—Have we organized the material to suit the public's needs?

—Are the requirements in the rule clearly stated?

—Does the rule contain technical language or jargon that is not clear?

—Would a different format (grouping and order of sections, use of headings, paragraphing) make the rule easier to understand?

—Would more (but shorter) sections be better?

—Could we improve clarity by adding tables, lists, or diagrams?

—What else could we do to make this rulemaking easier to understand?

K. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

List of Subjects in 49 CFR Part 571

Imports, Motor vehicle safety, Motor vehicles, Rubber and rubber products, Tires.

In consideration of the foregoing, the Federal Motor Vehicle Safety Standards (49 CFR part 571), are amended as set forth below.

PART 571—FEDERAL MOTOR VEHICLE SAFETY STANDARDS

1. The authority citation for part 571 continues to read as follows:

Authority: 49 U.S.C. 322, 30111, 30115, 30117, and 30166; delegation of authority at 49 CFR 1.50.

2. Section 571.3 is amended by adding a definition of “Multifunction school activity bus” to paragraph (b), in the appropriate alphabetical order, to read as follows:

§ 571.3 Definitions.

* * * * *

(b) * * *

Multifunction school activity bus (MFSAB) means a school bus whose purposes do not include transporting students to and from home or school bus stops.

* * * * *

3. Section 571.108 is amended by revising the introductory sentence in S5.1.4 to read as follows:

§ 571.108 Standard No. 108, Lamps, reflective devices, and associated equipment.

* * * * *

5.1.4 Except for multifunction school activity buses, each school bus shall be equipped with a system of either:

* * * * *

4. Section 571.131 is amended by revising S3 to read as follows:

§ 571.131 Standard No. 131, School bus pedestrian safety devices.

* * * * *

S3. Application. This standard applies to school buses other than multifunction school activity buses.

* * * * *

Issued on: July 21, 2003.
Jeffrey W. Runge,
Administrator.

[FR Doc. 03-19457 Filed 7-28-03; 10:13 am]

BILLING CODE 4910-59-P